DEPARTMENT OF ENERGY

Federal Energy Regulatory Commission

[Docket No. CP01-57-000]

SunCor Development Company; Notice of Petition

December 29, 2000.

Take notice that on December 21, 2000, SunCor Development Company (SunCor), 3838 North Central, Suite 1500, Phoenix, Arizona 85012, filed in Docket No. CP01-57-000, a Petition for Exemption of Temporary Acts and Operations from Certificate Requirements, pursuant to Rule 207(a)(5) of the Commission's Rules of Practice and Procedure (18 CFR 387.207(a)(5)), and section 7(c)(1)(B) of the Natural Gas Act (NGA), seeking approval of an exemption from certificate requirements to perform temporary activities related to drill site preparation and the drilling of a stratigraphic test well, all as more fully set forth in this petition which is on file with the Commission and open to public inspection. SunCor has requested expedited consideration of this Petition. This filing may be viewed on the web at http://www.ferc.fed.us/online/rims.htm (call 202-208-2222 for assistance).

Specifically, SunCor seeks authorization to engage in certain temporary activities for the sole purpose of drilling a 5,200 foot stratigraphic test well in the Luke salt deposit located in Section 2, Township 2 North, Range 1 West, Maricopa County, Arizona. SunCor states the proposed stratigraphic test well is critical in determining of the Luke salt deposit would be suitable for development of a natural gas salt storage facility. SunCor states that it intends to conduct the well test in compliance with any environmental requirements of the Arizona Oil & Gas Conservation Commission. SunCor also requests that the Commission grant pregranted abandonment authority under Section 7(b) of the NGA to the extent it is necessary or required.

Any questions regarding this petition should be directed to Steve Garvais, Vice President and General Counsel, SunCor Development Company, 3838 North Central, Suite 1500, Phoenix, Arizona 85012 at (603) 285-6800.

There are two ways to become involved in the Commission's review of this project. First, any person wishing to obtain legal status by becoming a party to the proceedings for this project should, on or before January 9, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and musts mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts form this proposal, it is important either to file comments or to intervene as early in the process as possible.

Comments and protests may be filed electronically via the Internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final commission order approving or denying a certificate will be issued.

Linwood A. Watson, Jr.,
Acting Secretary.

[FR Doc. 01-301 Filed 1-4-01; 8:45 am]

BILLING CODE 6717-01-M